DEPARTMENT OF EDUCATION

National Institute on Disability and Rehabilitation Research

AGENCY: Office of Special Education and Rehabilitative Services, Department of Education.

ACTION: Notice of Proposed Funding Priorities for Fiscal Years 2001-2002 for collaborative projects in spinal cord injury research.

SUMMARY: We propose funding priorities for collaborative spinal cord injury research, a spinal cord injury data center, and a spinal cord injury dissemination center under the National Institute on Disability and Rehabilitation Research (NIDRR) for fiscal years 2001-2002. We take this action to focus research attention on areas of national need. We intend these priorities to improve the rehabilitation services and outcomes for individuals with disabilities. This notice contains proposed priorities under the Disability and Rehabilitation Research Projects and Centers Program.

DATES: We must receive your comments on or before October 2, 2000.

ADDRESSES: All comments concerning these proposed priorities should be addressed to Donna Nangle, U.S. Department of Education, 400 Maryland Avenue, S.W., room 3414, Switzer Building, Washington, D.C. 20202-2645. Comments may also be sent through the Internet: donna_nangle@ed.gov

FOR FURTHER INFORMATION CONTACT: Donna Nangle. Telephone: (202) 205-5880. Individuals who use a telecommunications device for the deaf (TDD) may call the TDD number at (202) 205-4475. Internet: donna_nangle@ed.gov

Individuals with disabilities may obtain this document in an alternate format (e.g., Braille, large print, audiotape, or computer diskette) on request to the contact person listed in the preceding paragraph.

SUPPLEMENTARY INFORMATION:

Invitation to Comment

We invite you to submit comments regarding these proposed priorities.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these priorities in Room 3414, Switzer Building, 330 C Street SW., Washington, D.C., between the hours of 8:00 a.m. and 4:00 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, you may call (202) 205-8113 or (202) 260-9895. If you use a TDD, you may call the Federal Information Relay Service at 1-800-877-8339.

Goals 2000: Educate America Act

The Goals 2000: Education America Act (Goals 2000) focuses the Nation's education reform efforts on the eight National Education Goals and provides a framework for meeting them. Goals 2000 promotes new partnerships to strengthen schools and expands the Department's capacities for helping communities to exchange ideas and obtain information needed to achieve the goals.

These proposed priorities would address the National Education Goal that every adult American will be literate and will possess the knowledge and skills necessary to compete in a global economy and exercise the rights and responsibilities of citizenship.

The authority for the program to establish research priorities by reserving funds to support particular research activities is contained in sections 202(g) and 204 of the Rehabilitation Act of 1973, as amended (29 U.S.C. 762(g) and 764). Regulations governing this program are found in 34 CFR Part 350.

We will announce the final priorities in a notice in the Federal Register. We will determine the final priorities after considering responses to this notice and other information available to the Department. This notice does not preclude us from proposing or funding additional priorities, subject to meeting applicable rulemaking requirements.

Note: This notice does not solicit applications. In any year in which we choose to use these proposed priorities, we invite applications through a notice published in the Federal Register. When inviting applications we designate each priority as absolute, competitive preference, or invitational.

The proposed priority refers to NIDRR's Long Range Plan (the Plan). The Plan can be accessed on the World Wide Web at: http://www.ed.gov/legislation/FedRegister/other/1999-12/68576.html.

Disability and Rehabilitation Research Project and Centers Program

The authority for Disability and Rehabilitation Research Projects (DRRP) is contained in section 204 of the Rehabilitation of 1973, as amended (29 U.S.C. 761a and 762a). The purpose of the DRRP program is to plan and conduct research, demonstration projects, training and related activities to—

(a) Develop methods, procedures, and rehabilitation technology that maximizes the full inclusion and integration into society, employment, independent living, family support, and economic and social self-sufficiency of individuals with disabilities; and

(b) Improve the effectiveness of services authorized under the Act.

Background

The projects in these proposed priorities are to conduct research in collaboration with Centers established under the Special Projects and Demonstrations for Spinal Cord Injury (SCI) Program. The following section provides background information regarding that program to assist applicants in developing appropriate collaboration projects.

Special Projects and Demonstrations for Spinal Cord Injury

The authority for Model Spinal Cord Injury Centers (MSCI) is contained in section 204(b)(4) of the Rehabilitation Act of 1973, as amended (29 U.S.C. 762(b)(4)). We may make awards for up to 60 months through grants or cooperative agreements. The MSCI program provides assistance to establish innovative projects for the delivery, demonstration, and evaluation of comprehensive medical, vocational, and other rehabilitation services to meet the wide range of needs of individuals with SCI.

The MSCI program provides assistance for projects that provide comprehensive rehabilitation services to individuals with SCI and conduct spinal cord research, including clinical research and the analysis of standardized data in collaboration with other related projects.

Each MSCI Center establishes a multidisciplinary system of providing rehabilitation services, specifically designed to meet the special needs of individuals with SCI. This includes acute care as well as periodic inpatient or outpatient follow up and vocational services. MSCI Centers demonstrate and evaluate the benefits and cost effectiveness of such a system for the care of individuals SCI and demonstrate and evaluate existing, new, and improved methods and equipment essential to the care, management, and rehabilitation of individuals with SCI. MSCI Centers demonstrate and evaluate methods of community outreach and education for individuals with SCI in connection with the problems of those individuals in areas such as housing, transportation, recreation, employment, and community activities.

NIDRR is in the final selection process for MSCI Centers for the period 2000-2005. The priority announcement and notice inviting applications were published in the Federal Register on March 16, 2000 (65 FR 14345-14377). Additional information about the MSCI Centers Program is available on the World Wide Web at www.ncddr.org/rpp/hf/hfdw/mscis and in the special issue “Current Research Outcomes from the Model Spinal Cord Injury Care Systems”, Archives of Physical Medicine and Rehabilitation, Vol. 80, No. 11, November 1999.

Proposed Priority for Collaborative Research Projects in Spinal Cord Injury

In the announcement of March 16, 2000 it was indicated that a separate competition would be held for collaborative projects in SCI. We now propose to establish a priority for those collaborative projects. In addition, it is proposed to establish a Data Center to maintain and manage the database of information regarding individuals with SCI who receive treatment in the MSCI Centers. It is also proposed to establish a Dissemination Center to manage the collection and dissemination of academic and consumer information developed by those centers.

Collaborative Spinal Cord Injury Research Projects

Estimates of the number of people living with traumatic SCI range from 183,000 to 230,000, with an incidence of approximately 10,000 new cases each year (“Spinal Cord Injury Facts and Figures at a Glance,” National Spinal Cord Injury Statistical Center (NSCISC), University of Alabama at Birmingham. Although SCI predominately affects young adults (56% of SCIs occur among people aged 16-30 years), there is an increasing proportion of new SCI cases in the population over 60 years of age (NSCISC, ibid.). The true significance of traumatic SCI lies not primarily in the numbers affected, but in the substantial impact on individuals' lives and the associated substantial health care costs and living expenses. A traumatic SCI has far-reaching repercussions on the lives of the injured persons and their families that can be devastating if not addressed effectively. According to a report from the Agency for Health Care Policy and Research (Hospital Inpatient Statistics, 1996, AHCPR Publication No. 99-0034), SCI is the most expensive condition or diagnosis treated in U.S. hospitals. The estimated lifetime costs for an individual injured at the age of 25 range from $365,000 for an incomplete injury to more than $1.7 million for an individual with a high cervical injury (NSCISC, op cit).

Collaborative research projects are essential in the development of new knowledge for improved treatment and services for people with SCI. Multi-center collaboration enables the collection of data from a larger number of subjects, increasing the statistical reliability of the information. Collaborative research enables projects with a wider range of expertise than may be available at a single center. Multi-center collaboration may also enable comparisons of different health care delivery systems.

Additionally, multi-center projects may facilitate the inclusion of a more diverse range of individuals with SCI than may be available at a single center.

It is a requirement of this proposed priority that the research include two or more centers from the MSCI Centers Program. However, to achieve the combination of target populations and professional expertise necessary to answer relevant questions, collaboration with other NIDRR centers and centers supported by the Department of Veterans Affairs, the National Institutes of Health, and other public and private agencies are encouraged. A list of the MSCI Centers for 2000-2005 will be included in the final announcement of this priority.

Spinal Cord Injury Data Center

The database of the MSCI Centers Program is a collaborative project in which all of the centers participate. The parameters of the database are determined by the directors of the centers, in consultation with NIDRR. The specification of the database as it is currently implemented can be obtained from the National SCI Statistical Center at the University of Alabama at Birmingham. The Center may be contacted on the World Wide Web at http://www.ncddr.org/rpp/hf/hfdw/mscis/index.html or by e-mail at NSCISC@uab.edu or by telephone at (205) 934-5049). The SCI data center will maintain the database, provide technical assistance regarding data collection, and collaborate with all of the centers to publish information from the database. Historically the data center has been funded as a supplement to one of the centers in the program. However, we propose to establish a separate center to maintain this information.

Dissemination Center

The collection and dissemination of academic and consumer education products produced by the centers has been conducted by collaborative efforts among the centers in the program. This has resulted in a bibliography of articles published in professional journals and a database of consumer education materials. We propose to establish a center to maintain and continue to collect and disseminate this information. This center will be required to collaborate with all of the MSCI Centers and collaborative research projects as well as the Data Center and other NIDRR supported dissemination centers, the National Rehabilitation Information Center (NARIC) and the National Center for the Dissemination of Disability Research (NCDDR).

Proposed Priority 1: Collaborative Research in Spinal Cord Injury

We propose to fund collaborative projects in SCI research for the purpose of generating new knowledge through research, development, or demonstration to improve outcomes for SCI through improved interventions and service delivery models. A collaborative SCI Project must:

(1) Conduct a significant and substantial research project in SCI that will contribute to the advancement of knowledge in SCI consistent with the Plan.

Applicants may select from the following examples of research objectives related to specific areas of the Plan or other research objectives, including those that cut across areas of the Plan:

(Chapter 3, Employment Outcomes): Either (1) Assess barriers to employment of people with SCI; or (2) conduct multi-center evaluation of direct intervention strategies for improving employment outcomes.

(Chapter 4, Maintaining Health and Function): Either (1) conduct multi-center evaluations of interventions to improve outcomes in the preservation or restoration of function or the prevention and treatment of secondary conditions; or (2) assess service delivery models that provide quality care under constraints imposed by recent changes in the health care financing system.

(Chapter 5, Technology for Access and Function): Either (1) conduct a multi-center evaluation of the impact of selected innovations in technology and rehabilitation engineering on service delivery; or (2) assess the impact of selected innovations in technology and rehabilitation engineering on outcomes such as function, independence, and employment.

(Chapter 6, Independent Living and Community Integration): Measure the environmental factors influencing independence and community integration, employment function, and health maintenance.

(Chapter 7, Associated): Either (1) Evaluate methods to build the capacity for rehabilitation services for individuals with SCI; or (2) Investigate the impact of national telecommunications and information policy on the access of persons with SCI to related education, work, and other opportunities.

(2) Disseminate research and demonstration findings to SCI centers, rehabilitation practitioners, researchers, individuals with SCI and their families or other authorized representatives, and other public and private organizations involved in SCI care and rehabilitation.

In carrying out these purposes, the project must:

• Include two or more centers from the MSCI Centers Program.

• Incorporate culturally appropriate methods of community outreach and education in areas such as health and wellness, housing, transportation, recreation, employment, and other community activities for individuals with diverse backgrounds with SCI;

Proposed Priority 2: Data Center

We propose to establish a data center to manage and facilitate the use of information on individuals with SCI collected by the MSCI Centers. The Data Center must:

(1) Establish a hardware and software system to securely maintain data from the MSCI Centers. The system must maintain individual confidentiality and provide for data entry, quality control, data retrieval, and data analysis.

(2) Train and provide technical assistance to the MSCI Centers on proper data collection methods, data entry, and utilization of the database.

(3) Establish methods and procedures to communicate with NIDRR and the directors of the MSCI Centers regarding submissions to the database and the quality and utility of data elements.

(4) Demonstrate the capacity to conduct, facilitate, and disseminate research utilizing the database.

(5) Develop and facilitate methods for linking the data from the MSCI Centers with other databases to advance knowledge regarding SCI.

In carrying out these purposes the center must:

• Incorporate culturally appropriate methods of community outreach and education in areas such as health and wellness, housing, transportation, recreation, employment, and other community activities for individuals with diverse backgrounds with SCI; and

• Demonstrate the capacity to provide technical assistance to the MSCI Centers and to other related projects regarding database development and maintenance.

Proposed Priority 3: Dissemination Center

We propose to establish a center for the purpose of collecting, maintaining and disseminating academic and consumer education materials produced by the MSCI Centers and the Collaborative Research Projects in SCI. The Dissemination Center must:

(1) Establish, maintain, and disseminate a bibliography of the academic publications of the MSCI Centers and the Collaborative Research Projects in SCI.

(2) Establish a system to collect, maintain, and disseminate consumer education materials produced by the MSCI Centers and the Collaborative Research Projects in SCI.

(3) Establish collaborative relationships with NIDRR supported dissemination centers, NARIC (www.naric.com) and NCDDR (www.ncddr.org).

In carrying out these purposes, the project must:

• Incorporate culturally appropriate methods of community outreach and education in areas such as health and wellness, housing, transportation, recreation, employment, and other community activities for individuals with diverse backgrounds with SCI; and

• Establish procedures to collaborate with the SCI Data Center and other information sources supported by public or private agencies to facilitate dissemination of information regarding SCI research.

Proposed Additional Selection Criterion

We will use the selection criteria in 34 CFR 350.54 to evaluate applications under this program. The maximum score for all the criteria is 100 points; however, we will also use the following criterion so that up to an additional ten points may be earned by an applicant for a total possible score of 110 points.

Up to ten (10) points based on the extent to which an application includes effective strategies for employing and advancing in employment qualified individuals with disabilities in projects awarded under this absolute priority. In determining the effectiveness of those strategies, we will consider the applicant's prior success, as described in the application, in employing and advancing in employment qualified individuals with disabilities.

Thus for purposes of this competitive preference, applicants can be awarded up to a total of 10 points in addition to those awarded under the published selection criteria for this priority. That is, an applicant meeting this competitive preference could earn a maximum total of 110 points.

Applicable Program Regulations: 34 CFR Part 350.

Electronic Access to This Document

You may view this document, as well as all other Department of Education documents published in the Federal Register, in text or Adobe Portable Document Format (PDF) on the Internet at either of the following sites:

http://ocfo.ed.gov/fedreg.htm

http://www.ed.gov/news.html

To use the PDF you must have Adobe Acrobat Reader, which is available free at either of the preceding sites. If you have questions about using the PDF, call the U.S. Government Printing Office (GPO), toll free, at 1-888-293-6498; or in the Washington, DC, area at (202) 512-1530.

Note: The official version of the document is published in the Federal Register. Free Internet access to the official edition of the Federal Register and the Code of Federal Regulations is available on GPO Access at: http://www.access.gpo.gov/nara/index.html

(Catalog of Federal Domestic Assistance Numbers 84.133A, Disability Rehabilitation Research Project)

Program Authority: 29 U.S.C. 761a(g) and 762a.

Dated: August 29, 2000.
Curtis L. Richards,
Acting Assistant Secretary for Special Education and Rehabilitative Services.

[FR Doc. 00-22431 Filed 8-31-00; 8:45 am]

BILLING CODE 4000-01-U